DEPARTMENT OF DEFENSE

GENERAL SERVICES ADMINISTRATION

NATIONAL AERONAUTICS AND SPACE ADMINISTRATION

48 CFR Chapter 1

[Docket FAR-2007-002, Sequence 3]

Federal Acquisition Regulation; Federal Acquisition Circular 2005-18; Introduction

AGENCIES: Department of Defense (DoD), General Services Administration (GSA), and National Aeronautics and Space Administration (NASA).

ACTION: Summary presentation of interim rule.

SUMMARY: This document summarizes the Federal Acquisition Regulation (FAR) rule agreed to by the Civilian Agency Acquisition Council and the Defense Acquisition Regulations Council in this Federal Acquisition Circular (FAC) 2005-18. A companion document, the Small Entity Compliance Guide (SECG), follows this FAC. The FAC, including the SECG, is available via the Internet at http://www.regulations.gov/.

DATES: For effective dates and comment dates, see separate documents which follow.

FOR FURTHER INFORMATION CONTACT: For clarification of content, contact the analyst whose name appears in the table below in relation to the FAR case. Please cite FAC 2005-18 FAR Case 2006-032. Interested parties may also visit our website at http://www.regulations.gov. For information pertaining to status or publication schedules, contact the FAR Secretariat at (202) 501-4755.

Rule listed in FAC 2005-18
Item | Subject | FAR case | Analyst
I | Small Business Size Rerepresentation | 2006-032 | Cundiff.

SUPPLEMENTARY INFORMATION: A summary of the FAR rule follows. For the actual revisions and/or amendments to this FAR case, refer to FAR Case 2006-032. FAC 2005-18 amends the FAR as specified below:

Item I—Small Business Size Rerepresentation (FAR Case 2006-032)

This interim rule amends the FAR to implement the Small Business Administration's (SBA) final rule published on November 15, 2006 (71 FR 66434), entitled “Small Business Size Regulations; Size for Purposes of Governmentwide Acquisition Contracts, Multiple Award Schedule Contracts and Other Long-Term Contracts; 8(a) Business Development/Small Disadvantaged Business; Business Status Determinations.” The purpose of the SBA rule and this FAR rule is to improve the accuracy of small business size status reporting, at the prime contract level, over the life of certain contracts (long-term contracts, contracts involving novations, acquisitions, and mergers). Contractors will be required to rerepresent their size status on contracts prior to the end of the fifth year of a contract that is more than five years in duration (long-term contract); prior to exercising any option thereafter; following execution of a novation agreement; or following a merger or acquisition of the contractor, regardless of whether there is a novation agreement. A change in the size status does not change the terms and conditions of the contract, but the agency may no longer include the value of options exercised or orders issued against the contract in its small business prime contracting goal achievements.

Dated: June 29, 2007.
Michael Jackson,
Acting Director, Contract Policy Division.

Federal Acquisition Circular

Federal Acquisition Circular (FAC) 2005-18 is issued under the authority of the Secretary of Defense, the Administrator of General Services, and the Administrator for the National Aeronautics and Space Administration.

Unless otherwise specified, all Federal Acquisition Regulation (FAR) and other directive material contained in FAC 2005-18 is effective June 30, 2007.

Dated: June 27, 2007.
Shay D. Assad,
Director, Defense Procurement and Acquisition Policy.

Dated: June 28, 2007.
George Barclay,
Acting Senior Procurement Executive, General Services Administration.

Dated: June 27, 2007.
Kenneth A. Sateriale,
Acting Assistant Administrator for Procurement, National Aeronautics and Space Administration.

[FR Doc. 07-3277 Filed 7-2-07; 11:18 am]

BILLING CODE 6820-EP-S